DEPARTMENT OF HEALTH AND HUMAN SERVICES

National Institutes of Health

National Institute of Mental Health; Amended Notice of Meeting

Notice is hereby given of a change of the Interagency Autism Coordinating Committee (IACC) Subcommittee on Safety meeting on November 29, 2010, 9 a.m. to 12 p.m., at the Neuroscience Center, 6001 Executive Boulevard, Conference Room B1/B2, Rockville, MD 20852, which was published in the Federal Register on November 10, 2010, 75 FR 69091.

The meeting will be a teleconference with no in-person meeting as originally advertised. The conference call will be open to the public and accessible through a conference call phone number. The call will be held from 10 a.m. to 12 p.m. The call is subject to change and could end earlier.

Dated: November 18, 2010.
Jennifer S. Spaeth,
Director, Office of Federal Advisory Committee Policy.

[FR Doc. 2010-29616 Filed 11-23-10; 8:45 am]

BILLING CODE 4140-01-P